ENVIRONMENTAL PROTECTION AGENCY

[FRL-7870-1]

Science Advisory Board Staff Office Notification of an Upcoming Meeting of the Science Advisory Board; Superfund Benefits Analysis Advisory Panel

AGENCY: Environmental Protection Agency (EPA).

ACTION: Notice.

SUMMARY: The EPA Science Advisory Board (SAB) Staff Office announces two public meetings of the SAB Superfund Benefits Analysis Advisory Panel.

DATES: February 11, 2005. A public teleconference of the SAB Superfund Benefits Analysis Advisory Panel will be held from 2 p.m. to 4 p.m. Eastern time on February 11, 2005.

February 24-25, 2005. A public meeting of the Superfund Benefits Analysis Advisory Panel will be held on February 24-25, 2005 in the SAB Conference Center at 1025 F Street, NW., Washington, DC 20004.

FOR FURTHER INFORMATION CONTACT: Members of the public who wish to submit written or brief oral comments (five minutes or less) must contact Dr. Holly Stallworth, Designated Federal Officer, at telephone: (202) 343-9867 or via e-mail at: stallworth.holly@epa.gov s. Requests to provide oral comments must be in writing (e-mail, fax or mail) and received by Dr. Stallworth no later than five business days prior to the meeting in order to reserve time on the meeting agenda. It is the policy of the EPA Science Advisory Board Staff Office to accept written public comments of any length, and to accommodate oral public comments whenever possible. Any member of the public wishing further information regarding the SAB or the Superfund Benefits Analysis Advisory Panel may also contact Dr. Stallworth, or visit the SAB Web site at: http://www.epa.gov/sab/.

Technical Contact: The technical contact in EPA's Office of Solid Waste and Emergency Response for the Superfund Benefits Analysis is Ms. Melissa Friedland who can be reached at (703) 603-8864 or friedland.melissa@epa.gov.

SUPPLEMENTARY INFORMATION: Background: The Office of Solid Waste and Emergency Response (OSWER) has issued a draft study of the benefits of the Superfund program. This draft study is entitled Superfund Benefits Analysis and may be found at: http://www.epa.gov/superfund/news/benefits.htm. OSWER has requested the SAB for advice on its Superfund Benefits Analysis. A “widecast” soliciting expertise for the Superfund Benefits Analysis Advisory Panel was published in a Notice on July 30, 2004 (69 FR 45705-45706).

On February 11, 2005, the SAB Panel will discuss charge questions and general plans for the advisory meeting that will follow. The charge questions to this Panel will be posted at the SAB Web site at: http://www.epa.gov/sab/panels/sba_adv_panel.htm prior to the meeting. On February 24-25, panelists will review the EPA's draft Superfund Benefits Analysis and discuss responses to charge questions. Meeting materials and agendas for the February 11, 2005 teleconference and for the face-to-face meeting of February 24-25, 2005 will be posted on the SAB Web site prior to each meeting.

Procedures for Providing Public Comment: It is the policy of the SAB Staff Office to accept written public comments of any length, and to accommodate oral public comments whenever possible. The SAB Staff Office expects that public statements presented at the Panel's meetings will not be repetitive of previously submitted oral or written statements. Oral Comments: Requests to provide oral comments must be in writing (e-mail, fax or mail) and received by Dr. Stallworth no later than five business days prior to the teleconference in order to reserve time on the meeting agenda. For teleconferences, opportunities for oral comment will usually be limited to no more than three minutes per speaker and no more than fifteen minutes total.

Written Comments: Although written comments are accepted until the date of the meeting (unless otherwise stated), written comments should be received in the SAB Staff Office at least five business days prior to the meeting date so that the comments may be made available to the committee for their consideration. Comments should be supplied to the DFO at the address/contact information noted above in the following formats: one hard copy with original signature, and one electronic copy via e-mail (acceptable file format: Adobe Acrobat, WordPerfect, Word, or Rich Text files (in IBM-PC/Windows 98/2000/XP format).

Meeting Accommodations: Individuals requiring special accommodation to access these meetings, should contact Dr. Stallworth at least five business days prior to the meeting so that appropriate arrangements can be made.

Dated: January 25, 2005.
Vanessa T. Vu,
Director, EPA Science Advisory Board Staff Office.

[FR Doc. 05-2307 Filed 2-4-05; 8:45 am]

BILLING CODE 6560-50-P